DEPARTMENT OF TRANSPORTATION

Federal Aviation Administration

14 CFR Part 77

[Docket No. FAA-2004-16982; Notice No. 04-01]

Colo Void Clause Coalition; Antenna Systems Co-Location; Voluntary Best Practices

AGENCY: Federal Aviation Administration (FAA), DOT.

ACTION: Notice of availability and request for comments.

SUMMARY: This document announces the availability of a letter dated December 23, 2003, from the Colo Void Clause Coalition (CVCC) proposing “voluntary best practices” that would apply to the co-location of antenna systems, for certain designated frequencies, that are within one nautical mile of an FAA facility. The FAA seeks comments on the CVCC proposal.

DATES: Comments must be received on or before February 13, 2004.

ADDRESSES: You may send comments, identified by Docket Number FAA-2004-16982, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

For more information on this process, see the SUPPLEMENTARY INFORMATION section of this document.

Privacy: We will post all comments we receive, without change, to http://dms.dot.gov, including any personal information you provide. For more information, see the Privacy Act discussion in the SUPPLEMENTARY INFORMATION section of this document.

Docket: To read the CVCC document and other pertinent documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Rene J. Balanga, Spectrum Policy and Management, ASR-100, Federal Aviation Administration, 800 Independence Ave., SW., Washington, DC 20591; telephone number: (202) 267-3819.

SUPPLEMENTARY INFORMATION:

Comments Invited

The FAA invites interested persons to comment on the CVCC's proposed voluntary best practices document by submitting written comments, data, or views. We ask that you send us two copies of written comments.

We will file in the docket all comments we receive, as well as a report summarizing each substantive public contact with FAA personnel concerning this document. The docket is available for public inspection before and after the comment closing date. If you wish to review the docket in person, go to the address in the ADDRESSES section of this preamble between 9 a.m. and 5 p.m., Monday through Friday, except Federal holidays. You may also review the docket using the Internet at the web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before adopting any policy changes based on the CVCC proposed voluntary best practices, we will consider all comments we receive on or before the closing date for comments. We will consider comments filed late if it is possible to do so without incurring expense or delay.

If you want the FAA to acknowledge receipt of your comments, include with your comments a pre-addressed, stamped postcard on which the docket number appears. We will stamp the date on the postcard and mail it to you.

Discussion

On December 23, 2003, the CVCC wrote to Marion C. Blakey, FAA Administrator, and attached a Voluntary Best Practices Agreement Regarding the Potential for Electromagnetic Interference Upon FAA Facilities (Best Practices Agreement). The CVCC is a coalition of wireless carriers, tower companies, and trade associations that currently own or manage a majority of the radio towers throughout the United States. The FAA is reviewing the submitted Best Practices Agreement and will consider all submitted comments in determining whether any changes are warranted to current FAA notification policies with respect to co-location of antenna systems, for certain designated frequencies, that are within one nautical mile of FAA facilities.

Issued in Washington, DC, on January 29, 2004.
Oscar Alvarez,
Acting Program Director, Spectrum Policy and Management.

[FR Doc. 04-2216 Filed 1-29-04; 4:36 pm]

BILLING CODE 4910-13-U